DEPARTMENT OF DEFENSE

Department of the Army, Corps of Engineers

Notice of Availability for the Draft Feasibility Report and Environmental Impact Statement/Environmental Report (DFR/DEIS-EIR) for the Pine Flat Dam, Fish and Wildlife Habitat Restoration Investigation, California

AGENCY: U.S. Army Corps of Engineers. DoD.

ACTION: Notice of availability.

SUMMARY: The U.S. Army Corps of Engineers, in coordination with the Kings River Conservation District and Kings River Water Association, have prepared a DFR/DEIS-EIR for the Pine Flat Dam, Fish and Wildlife Habitat Restoration Investigation. This investigation proposes to restore and protect the ecosystem for fish and wildlife resources in Pine Flat Lake, and in and along the lower Kings River by improving the fishery habitat; increasing the fishery survival rate; increasing riparian, shaded riverine aquatic (SRA), and oak woodland habitats; and reestablishing native historic plant and wildlife communities. This DFR/DEIS-EIR is being made available for a 45-day public comment period. All comments should be submitted on or before August 28, 2001.

FOR FURTHER INFORMATION CONTACT: To obtain additional information related to this Report, interested persons are invited to contact the following: Mr. David Tedrick, Biological Sciences Environmental Manager, U.S. Army Corps of Engineers, 1325 J Street, Sacramento, California 95814-2922, (916) 557-7087 or (916) 557-5138 (FAX), dtedrick@spk.usace.army.mil.

SUPPLEMENTARY INFORMATION: 1. Report Availability. Printed copies of the DFR/DEIS-EIR are available for public inspection and review at the following locations:

U.S. Army Corps of Engineers, Sacramento District, 1325 J Street, Sacramento, CA 95814-2922

Kings River Conservation District, 4886 E. Jensen Avenue, Fresno, CA 93725

Fresno County Library, Main, 2420 Mariposa, Fresno, CA 93721

Fresno County Library, Clovis Branch, 1155 5th Street, Clovis, CA 93611

Fresno County Library, Fig Garden Branch, 3071 W. Bullard, Fresno, CA 93711

Fresno County Library, Sunnyside Branch, 5562 E. Kings Canyon Road, Fresno, CA 93727

Reedley Public Library, 1027 E Street, Reedley, CA 93654

Sanger Public Library, 1812 7th Street, Sanger, CA 93657

2. Commenting. Comments received in response to this report, including names and addresses of those who comment, will be considered part of the public record on this proposed action. Comments submitted anonymously will be accepted and considered. Pursuant to 7 CFR 1.27(d), any person may request the agency to withhold a submission from the public record by showing how the Freedom of Information (FOIA) permits such confidentiality. Persons requesting such confidentiality should be aware that, under the FOIA, confidentiality may be granted in only very limited circumstances, such as to protect trade secrets. The Corps will inform the requester of the agency's decision regarding the request for confidentiality, and where the request is denied, the agency will return the submission and notify the requester that the comments may be resubmitted with or without the name and address.

Luz D. Ortiz,
Army Federal Register Liaison Officer.

[FR Doc. 01-17614 Filed 7-12-01; 8:45 am]

BILLING CODE 3710-EZ-M